DEPARTMENT OF JUSTICE

Notice of Lodging of Consent Decree Under the Clean Air Act

Notice is hereby given that on March 19, 2007, a proposed Consent Decree (“Consent Decree”) in United States v. PPL Montana, LLC, et al., Civil Action No. 1:07-CV-00040-RFC-CSO was lodged with the United States District Court for the District of Montana.

The Consent Decree resolves claims by the United States against the operator of the Colstrip Power Plant, PPL Montana LLC, and the companies that own fractional interests of Units #3 and #4 of the Colstrip Power Plant, which include PPL Montana, NorthWestern Corporation, Puget Sound Energy, Inc., Portland General Electric Company, Avista Corporation, and PacifiCorp under sections 113 and 169A of the Clean Air Act, 42 U.S.C. 7413 and 7491. The Consent Decree will require the Defendants to install and operate so-called “low-NOX burners” and overfire air on Colstrip Units #3 and #4, and meet defined emission limits until such time that Defendants obtain applicable permits. The decree also requires Defendants to pay a $50,000 civil penalty to the United States. In settlement of claims by Plaintiff-Intervenor the Northern Cheyenne Tribe (the “Tribe”), the Consent Decree also requires Defendants to fund an Energy Efficiency Project for the benefit of members of the Tribe.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. PPL Montana, LLC, et al., D.J. Ref. 90-5-2-1-08494.

The Consent Decree may be examined at the Office of the United States Attorney, District of Montana, 2929 Third Avenue, Billings, MT 59102 and at U.S. EPA Region 8, 1595 Wynkoop Street, Denver, CO 80202-1129. During the public comment period the Consent Decree may also be examined on the following Department of Justice Web site: http://www.usdoj.gov/enrd/Consent_Decrees.htm. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $14.25 (25 cents per page reproduction cost) payable to the U.S. Treasury or, if by e-mail or fax, forward a check in that amount to the Consent Decree Library at the stated address.

Robert Brook,
Assistant Section Chief, Environmental Enforcement Section, Environment and Natural Resources Division.

[FR Doc. 07-1528 Filed 3-28-07; 8:45 am]

BILLING CODE 4410-15-M